DEPARTMENT OF COMMERCE

National Oceanic and Atmospheric Administration

RIN 0648-XC680

Gulf of Mexico Fishery Management Council; Public Meeting; Correction

AGENCY: National Marine Fisheries Service (NMFS), National Oceanic and Atmospheric Administration (NOAA), Commerce.

ACTION: Council to convene a public meeting; correction.

SUMMARY: The Gulf of Mexico Fishery Management Council will convene a meeting of the Standing, Special Mackerel and Special Reef Fish Scientific and Statistical Committees.

DATES: The meeting will convene at 8:30 a.m. on Wednesday, May 29, 2013 and conclude by 12 p.m. Friday, May 31, 2013.

FOR FURTHER INFORMATION CONTACT: Steven Atran, Population Dynamics Statistician; Gulf of Mexico Fishery Management Council; telephone: (813) 348-1630.

SUPPLEMENTARY INFORMATION:

Need for Correction

The original meeting was published at 78 FR 27365, May 10, 2013, omitted the full name of one Scientific and Statistical Committee. This document has made this correction in the SUMMARY. All other information in the original is correct and will not be repeated here.

Dated: May 14, 2013.
Tracey L. Thompson,
Acting Deputy Director, Office of Sustainable Fisheries, National Marine Fisheries Service.

[FR Doc. 2013-11794 Filed 5-16-13; 8:45 am]

BILLING CODE 3510-22-P